DEPARTMENT OF TRANSPORTATION

Federal Aviation Administration

14 CFR Part 39

[Docket No. FAA-2006-25173; Directorate Identifier 2006-NE-24-AD]

RIN 2120-AA64

Airworthiness Directives; McCauley Propeller Systems Propeller Models B5JFR36C1101/114GCA-0, C5JFR36C1102/L114GCA-0, B5JFR36C1103/114HCA-0, and C5JFR36C1104/L114HCA-0

AGENCY: Federal Aviation Administration (FAA), Department of Transportation (DOT).

ACTION: Notice of proposed rulemaking (NPRM).

SUMMARY: The FAA proposes to supersede three existing airworthiness directives (ADs) for McCauley Propeller Systems propeller models B5JFR36C1101/114GCA-0, C5JFR36C1102/L114GCA-0, B5JFR36C1103/114HCA-0, and C5JFR36C1104/L114HCA-0. Those ADs currently require fluorescent penetrant inspections (FPI) and eddy current inspections (ECI) of propeller blades for cracks, and if any crack indications are found, removing the blade from service. This proposed AD would require the same initial inspections, but extends the compliance times and intervals, adds repetitive inspections, and mandates a life limit for the blades. This proposed AD results from our determination that we must require repetitive inspections for cracks, and from reports of blunt leading edges of the propeller blades due to erosion. We are proposing this AD to detect cracks in the propeller blade that could cause failure and separation of the propeller blade and loss of control of the airplane, and to detect blunt leading edges on the propeller blades, which could cause airplane single engine climb performance degradation and could result in an increased risk of collision with terrain.

DATES: We must receive any comments on this proposed AD by December 31, 2007.

ADDRESSES: Use one of the following addresses to comment on this proposed AD.

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Contact McCauley Propeller Systems, P.O. Box 7704, Wichita, KS 67277-7704, telephone (800) 621-7767 for the service information referenced in this AD.

FOR FURTHER INFORMATION CONTACT: Jeff Janusz, Aerospace Engineer, Wichita Aircraft Certification Office, FAA, Small Airplane Directorate, 1801 Airport Road, Room 100, Wichita, KS 67209; e-mail: jeff.janusz@faa.gov; telephone: (316) 946-4148; fax: (316) 946-4107.

SUPPLEMENTARY INFORMATION:

Comments Invited

We will post all comments we receive, without change, to http://www.regulations.gov, including any personal information you provide. We will also post a report summarizing each substantive verbal contact with FAA personnel concerning this proposed AD. Using the search function of the DOT Web site, anyone can find and read the comments in any of our dockets, including the name of the individual who sent the comment (or signed the comment on behalf of an association, business, labor union, etc.). You may review the DOT's complete Privacy Act Statement in the Federal Register published on April 11, 2000 (65 FR 19477-78).

Examining the AD Docket

You may examine the AD docket on the Internet at http://www.regulations.gov, or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

Discussion

On July 14, 2003, we issued AD 2003-15-01, Amendment 39-13243 (68 FR 42244, July 17, 2003). That AD applies to the following McCauley Systems, Inc. propeller assemblies that are installed on, but not limited to, BAE Systems (Operations) Limited Jetstream Model 4101 airplanes:

• Hub Model B5JFR36C1101, with Model 114GC series propeller blades.

• Hub Model C5JFR36C1102, with Model L114GC series propeller blades.

• Hub Model B5JFR36C1103, with Model 114HC series propeller blades.

• Hub Model C5JFR36C1104, with Model L114HC series propeller blades.

That AD requires a onetime FPI of propeller blade retention areas for cracks. That AD resulted from a report of a significant crack in a propeller blade shank and two reports of cracks in the hubs of the same propeller model. That condition, if not corrected, could result in a failure of the propeller blade or hub and loss of control of the airplane.

On August 18, 2003, we issued AD 2003-17-10, Amendment 39-13285 (68 FR 52337, September 3, 2003). That AD superseded AD 2003-15-01 to require initial and repetitive FPI or eddy current inspections (ECI) of the propeller blades, and for hubs that have been overhauled one or more times. That AD resulted from reports of four additional propeller blade cracks. Based on examination of these cracked propeller blades, we established a repetitive inspection interval.

On November 10, 2004, we issued AD 2004-23-16, Amendment 39-13871 (67 FR 67807, November 22, 2004). That AD requires a onetime eddy-current inspection of the propeller hub for cracks, and if necessary, replacing the propeller assembly. That AD resulted from three reports of cracked hubs. The compliance times for the onetime hub inspections in 2004-23-16 are more restrictive than the compliance times required in AD 2003-17-10.

On July 18, 2006, we issued AD 2006-15-13, Amendment 39-14693 (71 FR 42258, July 26, 2006). That AD requires a onetime fluorescent penetrant inspection (FPI) and eddy current inspection (ECI) of propeller blades for cracks, and if cracked, removing the blade from service. That AD resulted from a report of two propeller blades on the same propeller assembly, found cracked during propeller overhaul. That condition, if not corrected, could result in failure and separation of the propeller blade and loss of control of the airplane.

Actions Since We Issued AD 2006-15-13

Since we issued AD 2006-15-13, we have reduced the crack inspection interval. We also received reports of blunt leading edges of propeller blades due to erosion of some propeller blades on Jetstream 41 airplanes. Based on the reports we received from inspections performed after we issued AD 2006-15-13, McCauley Propeller Systems issued a new alert service bulletin to address the inspections for cracks.

Relevant Service Information

We have reviewed and approved the technical contents of McCauley Propeller Systems Alert Service Bulletin (ASB) ASB255, dated January 8, 2007, which describes procedures for inspecting the propeller blades for cracks.

FAA's Determination and Requirements of the Proposed AD

We have evaluated all pertinent information and identified an unsafe condition that is likely to exist or develop on other products of this same type design. For that reason, we are proposing this AD, which would require for certain blades, an FPI and ECI of propeller blades for cracks based on hours time-in-service after the effective date of the AD, and if any crack indications are found, removal from service. Also, the proposed AD would require inspecting for blunt leading edges of the propeller blades while inspecting them for cracks, and if necessary, dressing any erosion before returning the blades to service. The proposed AD would require that you do these actions using the service information described previously.

Interim Action

These actions are interim actions and we may take further rulemaking actions in the future.

Costs of Compliance

We estimate that this proposed AD would affect 22 propeller assemblies installed on airplanes of U.S. registry. We estimate that it would take about 47 work-hours per propeller to perform the required actions, and that the average labor rate is $80 per work-hour. Required parts would cost about $260 per propeller. Based on these figures, we estimate the total cost of the proposed AD to U.S. operators to be $88,440.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13243 (68 FR 42244, July 17, 2003), Amendment 39-13285 (68 FR 52337, September 3, 2003), and Amendment 39-14693 (71 FR 42258, July 26, 2006), and by adding a new airworthiness directive to read as follows:

McCauley Propeller Systems: Docket No. FAA-2006-25173; Directorate Identifier 2006-NE-24-AD.

Comments Due Date

(a) The Federal Aviation Administration (FAA) must receive comments on this airworthiness directive (AD) action by December 31, 2007.

Affected ADs

(b) This AD supersedes AD 2003-15-01, Amendment 39-13243; AD 2003-17-10, Amendment 39-13285; and 2006-15-13, Amendment 39-14693.

Applicability

(c) This AD applies to McCauley Propeller Systems propeller models B5JFR36C1101/114GCA-0, C5JFR36C1102/L114GCA-0, B5JFR36C1103/114HCA-0, and C5JFR36C1104/L114HCA-0. These propellers are installed on BAE Systems (Operations) Limited Jetstream Model 4100 and 4101 series airplanes (Jetstream 41).

Unsafe Condition

(d) This AD results from our determination that we must require repetitive inspections for cracks, and from reports of blunt leading edges of the propeller blades due to erosion. We are issuing this AD to detect cracks in the propeller blade that could cause failure and separation of the propeller blade and loss of control of the airplane, and to detect blunt leading edges on the propeller blades, which could cause airplane single engine climb performance degradation and could result in an increased risk of collision with terrain.

Compliance

(e) You are responsible for having the actions required by this AD performed within the compliance times specified unless the actions have already been done.

Life Limit

(f) Remove all 114GCA-0, L114GCA-0, 114HCA-0, and L114HCA-0 propeller blades upon reaching 10,000 operating hours time-since-new.

Initial Propeller Blade Inspection

(g) Perform an initial fluorescent penetrant inspection and eddy current inspection of propeller blades. Use the Equipment Required and Accomplishment Instructions of McCauley Propellers Alert Service Bulletin ASB255, dated January 8, 2007, and the following compliance schedule:

Table 1.—Compliance Schedule
If the Propeller Blade | Then Inspect the Propeller Blade
(1) Has more than 2,400 operating hours time-since-new (TSN), time-since-last inspection (TSLI), or time-since-overhaul (TSO) | Within 100 operating hours time-in-service (TIS) after the effective date of this AD.
(2) Has 2,400 or fewer operating hours TSN, TSLI, or TSO | Upon reaching 2,500 operating hours TSN, TSLI, or TSO.

Propeller Blades Found Cracked

(h) Remove from service propeller blades found with any crack indications.

Repetitive Propeller Blade Inspection

(i) Thereafter, inspect the propeller blades within 2,500 operating hours TSLI or TSO. Use the Equipment Required and Accomplishment Instructions of McCauley Propellers Alert Service Bulletin ASB255, dated January 8, 2007.

Inspection for Blunt Erosion on the Leading Edge of the Propeller Blade

(j) Every time the propeller is removed for the inspection for cracks, inspect the blade for erosion and, if necessary, repair the erosion. The McCauley Propeller Systems Blade Overhaul Manual No., BOM, 100, contains information on inspecting and repairing erosion on the propeller blade.

Reporting Requirements

(k) Within 10 calendar days of the inspection, use the Reporting Form for Service Bulletin 255 to report all inspection findings to McCauley Propeller Systems, P.O. Box 7704, Wichita, KS 67277-7704, telephone (800) 621-7767.

(l) The Office of Management and Budget (OMB) has approved the reporting requirements and assigned OMB control number 2120-0056.

Alternative Methods of Compliance

(m) The Manager, Wichita Aircraft Certification Office, has the authority to approve alternative methods of compliance for this AD if requested using the procedures found in 14 CFR 39.19.

Special Flight Permits

(n) Under 39.23, we are limiting the availability of special flight permits for this AD. Special flight permits are available only if:

(1) The operator has not seen signs of external oil leakage from the hub; and

(2) The operator has not observed abnormal propeller vibration or abnormal engine vibration; and

(3) The operator has not observed any other abnormal operation from the propeller; and

(4) The operator has not made earlier reports of abnormal propeller vibration, abnormal engine vibration, or other abnormal propeller operations that have not been addressed.

Related Information

(o) Contact Jeff Janusz, Aerospace Engineer, Wichita Aircraft Certification Office, FAA, Small Airplane Directorate, 1801 Airport Road, Room 100, Wichita, KS 67209; e-mail: jeff.janusz@faa.gov; telephone: (316) 946-4148; fax: (316) 946-4107, for more information about this AD.

Issued in Burlington, Massachusetts, on October 24, 2007.
Peter A. White,
Assistant Manager, Engine and Propeller Directorate, Aircraft Certification Service.

[FR Doc. E7-21493 Filed 10-31-07; 8:45 am]

BILLING CODE 4910-13-P